NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: September 23, 2021; 10:30 a.m.-4:30 p.m.

September 24, 2021; 10:30 a.m.-4:30 p.m.

Place: National Science Foundation, 2415 Eisenhower Avenue, Alexandria, Virginia 22314 | Virtual.

Registration for the virtual meeting will be available two weeks prior to the meeting date and will be located on the website: https://www.nsf.gov/geo/opp/advisory.jsp.

Type of Meeting: Open.

Contact Person: Beverly Walker, National Science Foundation, 2415 Eisenhower Avenue, Virginia 22314; Telephone: (703) 292-2614.

Minutes: May be obtained from the contact person listed above.

Purpose of Meeting: To provide advice and recommendations to the National Science Foundation concerning support for polar research, education, infrastructure and logistics, and related activities.

Agenda

September 23, 2021; 10:30 a.m.-4:30 p.m. (Virtual)

• COVID 19 Impacts

• Advisory Committee Liaison Updates

• Joint Session: Polar Programs (OPP) and Advisory Committee on Cyberinfrastructure (ACCI)

• NSF GEO Activities Updates

September 24, 2021; 10:30 a.m.-4:30 p.m. (Virtual)

• Research Security and International Partnerships

• Meeting with the NSF Director & Chief Operating Officer

• NSF GEO Activities Updates

• USAP Polar Vessel Requirements Updates

• Discussion regarding Subcommittee on Diversity, Equity, & Inclusion

Dated: August 23, 2021.
Crystal Robinson,
Committee Management Officer.

[FR Doc. 2021-18405 Filed 8-26-21; 8:45 am]

BILLING CODE 7555-01-P